FEDERAL MARITIME COMMISSION

Notice of Agreements Filed

The Commission hereby gives notice that interested parties may submit comments on the following agreement filed under the Shipping Act of 1984 to Secretary@fmc.gov or Secretary, Federal Maritime Commission, 800 North Capitol Street NW., Room 1046, Washington, DC 20573, by November 29, 2013. Copies of the agreement are available through the Commission's Web site (www2.fmc.gov/agreements/) or by contacting the Office of Agreements at (202) 523-5793 or tradeanalysis@fmc.gov.

Agreement No.: 012230.

Title: P3 Network Vessel Sharing Agreement.

Parties: A.P. Moller-Maersk A/S trading under the name Maersk Line; CMA CGM S.A.; and MSC Mediterranean Shipping Company, S.A.

Filing Party: Wayne R. Rohde, Esq.; Cozen O'Connor; 1627 I Street NW., Suite 1100; Washington, DC 20006.

Synopsis: The agreement authorizes the parties to share vessels and engage in related cooperative activities in the trades between each of Asia, North Europe, and the Mediterranean on the one hand and the U.S. on the other hand.

By Order of the Federal Maritime Commission.
Dated: November 20, 2013.
Karen V. Gregory,
Secretary.

[FR Doc. 2013-28191 Filed 11-22-13; 8:45 am]

BILLING CODE 6730-01-P